DEPARTMENT OF THE INTERIOR

Bureau of Land Management

[LLID100000-L10200000-PH0000-LXSSD0090000]

Notice of Public Meeting, Idaho Falls District Resource Advisory Council

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will meet in Idaho Falls, Idaho on January 28, 2014 for a one day meeting. New member orientation will begin at 8:00 a.m. at the BLM Idaho Falls Office, 1405 Hollipark Drive, Idaho Falls, Idaho. Following the orientation, the entire RAC will convene and elect a new chairman, vice chairman and secretary. After elections, the recreation RAC will assemble to discuss various fee proposals on the Salmon-Challis National Forest, which include several proposed fee increases from $5.00 to $10.00 per night at: Boundary Creek, Dagger Falls, Iron Bog, Park Creek, Phi Kappa, Starhope, Corn Creek, Spring Creek and Twin Creek Campgrounds in the Middle Fork, Lost River and North Fork Ranger Districts. A new $20.00 per use fee is being proposed for the Twin Creek Group Picnic Site in the North Fork Ranger District. The Challis-Yankee Fork Ranger District is also proposing a new fee of $5.00 per night at sites at the Custer #1 and Flat Rock Extension campgrounds. Following the recreation RAC meeting the group will discuss other topics including the Thompson Creek Mine EIS, Sage-grouse EIS and Pocatello travel management plan updates. Other topics will be scheduled as appropriate. The meeting is expected to conclude at 4:00 p.m.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments (10:45-11:15 a.m.). Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401; telephone: (208) 524-7550; email: sawheeler@blm.gov.

Dated: December 18, 2013.
Joe Kraayenbrink,
District Manager, Idaho Falls District.

[FR Doc. 2013-31231 Filed 12-27-13; 8:45 am]

BILLING CODE 4310-GG-P